DEPARTMENT OF AGRICULTURE

Agricultural Marketing Service

7 CFR Part 1218

[FV-99-702-PR3]

Blueberry Promotion, Research, and Information Order; Reopening and Extension of Voting Period

AGENCY: Agricultural Marketing Service, USDA.

ACTION: Proposed rule and Referendum Order; Amendment to Referendum Order.

SUMMARY: This action reopens and extends the voting period for the referendum during which cultivated blueberry producers and importers will vote on whether the Blueberry Promotion, Research, and Information Order will become effective. The voting period has been extended an additional 21 days to conclude on April 14, 2000, rather than on March 24, 2000. This action will better facilitate voter participation.

DATES: In order to be eligible to vote, blueberry producers and importers must have produced or imported 2,000 pounds or more of cultivated blueberries during the period from January 1, 1999, through December 31, 1999 (representative period). The voting period for the referendum will be March 13 through April 14, 2000.

ADDRESSES: Oliver L. Flake, Research and Promotion Branch, Fruit and Vegetable Programs, Agricultural Marketing Service, U.S. Department of Agriculture, Room 2535-S, Stop 0244, Washington, DC 20250-0244.

FOR FURTHER INFORMATION CONTACT: Oliver L. Flake at the above address or telephone toll free (888) 720-9917.

SUPPLEMENTARY INFORMATION: Previous documents in this proceeding: Proposed rule on referendum procedures published in the July 22, 1999, issue of the Federal Register [64 FR 39803]; Proposed Rule on the Blueberry Promotion, Research, and Information Order, which included a Referendum Order, published in the February 15, 2000, issue of the Federal Register [65 FR 7657]; a final rule on referendum procedures published in the February 15, 2000, issue of the Federal Register [65 FR 7652].

The February 15, 2000, referendum order [65 FR 7657] specified that the voting period would be from March 13, 2000, through March 24, 2000. However, throughout the voting period, the U.S. Department of Agriculture (USDA) has received numerous telephone calls from potentially eligible voters who did not receive ballots. These calls continued through the last days of the voting period. Therefore, in order to better facilitate full voter participation in the referendum, USDA is extending the voting period through April 14, 2000. In addition, USDA will continue to mail ballots to those potentially eligible voters who request a ballot and others as they become known.

Section 518 of the Commodity Promotion, Research, and Information Act of 1996 (Act) requires that a referendum be conducted among eligible blueberry producers and importers as to whether they favor the Order. The proposed Order [65 FR 7657] would become effective if it is approved by a majority of producers and importers who also represent a majority of the volume of blueberries represented in the referendum.

Any eligible producer or importer who has not received a ballot and related material should telephone the following toll-free telephone number to speak with a referendum agent: 1 (888) 720-9917.

Amended Referendum Order

It is hereby directed that the referendum Order published in the Federal Register on February 15, 2000, at 65 FR 7657, be amended so that the voting period for the referendum conducted among eligible blueberry producers and importers to determine whether they favor implementation of the Blueberry Promotion, Research, and Information Order be reopened and extended.

Accordingly, the referendum shall be conducted from March 13 through April 14, 2000. Ballots were mailed to all known cultivated blueberry producers and importers. Eligible voters who did not receive a ballot by mail should call the following toll-free telephone number to receive a ballot: 1 (888) 720-9917. All ballots will be subject to verification.

In order to be eligible to vote, blueberry producers and importers must have produced or imported 2,000 pounds or more of cultivated blueberries during the period from January 1, 1999, through December 31, 1999 (representative period). Ballots must be received by the referendum agents no later than April 14, 2000, to be counted.

Oliver L. Flake and Martha B. Ransom, Research and Promotion Branch, Fruit and Vegetable Programs, Agricultural Marketing Service, U.S. Department of Agriculture, Room 2535-S, Stop 0244, Washington, DC 20250-0244, are designated as the referendum agents of the Secretary of Agriculture to conduct the referendum. The Procedure for the Conduct of the Referenda in Connection with the Blueberry Promotion, Research, and Consumer Information Order, 7 CFR 1218.100-1218.107, which was published separately in the Federal Register [65 FR 7652], shall be used to conduct the referendum.

List of Subjects in 7 CFR Part 1218

Administrative practice and procedure, Advertising, Blueberries, Consumer information, Marketing agreements, Blueberry promotion, Reporting and Recordkeeping requirements.

Authority: U.S.C. 7401-7425

Dated: March 30, 2000.
Kathleen A. Merrigan,
Administrator.

[FR Doc. 00-8297 Filed 3-31-00; 10:40 am]

BILLING CODE 3410-02-P